DEPARTMENT OF COMMERCE

National Oceanic and Atmospheric Administration

[RTID 0648-XC389]

Fisheries of the South Atlantic; South Atlantic Fishery Management Council; Public Meetings

AGENCY: National Marine Fisheries Service (NMFS), National Oceanic and Atmospheric Administration (NOAA), Commerce.

ACTION: Notice of seminar series presentation.

SUMMARY: The South Atlantic Fishery Management Council (Council) will host a presentation from the National Marine Fisheries Service on incorporating video into reef fish surveys via webinar on October 11, 2022.

DATES: The webinar presentation will be held on Tuesday, October 11, 2022, from 1 p.m. until 2:30 p.m.

ADDRESSES: The presentation will be provided via webinar. The webinar is open to members of the public. Information, including a link to webinar registration will be posted on the Council's website at: https://safmc.net/safmc-meetings/other-meetings/ as it becomes available.

Council address: South Atlantic Fishery Management Council, 4055 Faber Place Drive, Suite 201, N Charleston, SC 29405.

FOR FURTHER INFORMATION CONTACT: Kim Iverson, Public Information Officer, SAFMC; phone: (843) 302-8439 or toll free: (866) SAFMC-10; fax: (843) 769-4520; email: kim.iverson@safmc.net.

SUPPLEMENTARY INFORMATION: The Council will host a presentation from National Marine Fisheries Service entitled “Incorporating Video into the Southeast Reef Fish Survey: Methods, Relative Abundance, and Applied Research”. The presentation will: (1) describe why and how underwater video was included in a long-term trap survey along the southeast U.S. Atlantic continental shelf; (2) review video-based trends in relative abundance trends for a number of economically important reef-fish species; and (3) detail two acoustic tracking studies (gray triggerfish and red snapper) to help us understand fish behaviour around baited sampling gears. A question-and-answer session will follow the presentation. Members of the public will have the opportunity to participate in the discussion. The presentation is for informational purposes only and no management actions will be taken.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: September 14, 2022.
Rey Israel Marquez,
Acting Deputy Director, Office of Sustainable Fisheries, National Marine Fisheries Service.

[FR Doc. 2022-20258 Filed 9-19-22; 8:45 am]

BILLING CODE 3510-22-P